DEPARTMENT OF ENERGY

Federal Energy Regulatory Commission

Combined Notice of Filings

Take notice that the Commission has received the following Natural Gas Pipeline Rate and Refund Report filings:

Filings Instituting Proceedings

Docket Numbers: RP16-368-000.

Applicants: Guardian Pipeline, L.L.C.

Description: § 4(d) Rate Filing: Negotiated Rate PAL Agreement—Exelon Generation Comp., LLC to be effective 1/8/2016.

Filed Date: 1/7/16.

Accession Number: 20160107-5157.

Comments Due: 5 p.m. ET 1/19/16.

Docket Numbers: RP16-369-000.

Applicants: Columbia Gas Transmission, LLC.

Description: § 4(d) Rate Filing: Penalty Clean Up Filing to be effective 2/1/2016.

Filed Date: 1/7/16.

Accession Number: 20160107-5193.

Comments Due: 5 p.m. ET 1/19/16.

Docket Numbers: RP16-370-000.

Applicants: Enable Mississippi River Transmission, L.

Description: § 4(d) Rate Filing: Negotiated Rate Filing to Amend LER 5680's Attachment A_1_7_16 to be effective 1/7/2016.

Filed Date: 1/7/16.

Accession Number: 20160107-5222.

Comments Due: 5 p.m. ET 1/19/16.

Docket Numbers: RP16-371-000.

Applicants: Millennium Pipeline Company, L.L.C.

Description: Penalty Revenue Crediting Report of under RP16-371.

Filed Date: 1/8/16.

Accession Number: 20160108-5149.

Comments Due: 5 p.m. ET 1/20/16.

Docket Numbers: RP16-372-000.

Applicants: Texas Eastern OFO.

Description: Compliance filing Report of Refund—S-2 Customer Share of Texas Eastern OFO Penalty Disbursement to be effective N/A.

Filed Date: 1/8/16.

Accession Number: 20160108-5179.

Comments Due: 5 p.m. ET 1/20/16.

Docket Numbers: RP16-373-000.

Applicants: Southwest Energy, L.P.

Description: § 4(d) Rate Filing: Negotiated Rate PAL Agreement—Southwest Energy, L.P. to be effective 1/10/2016.

Filed Date: 1/8/16.

Accession Number: 20160108-5203.

Comments Due: 5 p.m. ET 1/20/16.

Docket Numbers: RP16-374-000.

Applicants: Trailblazer Pipeline Company LLC.

Description: § 4(d) Rate Filing: Neg Rate 2016-01-08 Mieco to be effective 1/9/2016.

Filed Date: 1/8/16.

Accession Number: 20160108-5224.

Comments Due: 5 p.m. ET 1/20/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-233-001.

Applicants: No Applicants listed for this docket/subdocket.

Description: Compliance filing SG Resources Mississippi, L.L.C.—Compliance Filing to be effective 12/31/2015.

Filed Date: 1/8/16.

Accession Number: 20160108-5057.

Comments Due: 5 p.m. ET 1/20/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2016.
Nathaniel J. Davis, Sr.,
Deputy Secretary.

[FR Doc. 2016-00809 Filed 1-15-16; 8:45 am]

BILLING CODE 6717-01-P